DEPARTMENT OF DEFENSE

Department of the Army

Western Hemisphere Institute for Security Cooperation Board of Visitors; Meeting

Agency: Department of the Army, DoD.

Action: Notice; location change.

SUMMARY: The location for the Western Hemisphere Institute for Security Cooperation Board of Visitors meeting scheduled for June 18, 2009 that was published in the Federal Register on Tuesday, June 2, 2009 (74 FR 26378) has changed. The meeting will now be held at the Rayburn House Office Building, HR 2212, Washington, DC.

FOR FURTHER INFORMATION CONTACT: WHINSEC Board of Visitors Secretariat at (703) 614-1452.

SUPPLEMENTARY INFORMATION: None.

Brenda S. Bowen,
Army Federal Register Liaison Officer.

[FR Doc. E9-13441 Filed 6-8-09; 8:45 am]

BILLING CODE 3710-08-P